DEPARTMENT OF TRANSPORTATION

Surface Transportation Board

Senior Executive Service Performance Review Board

AGENCY: Surface Transportation Board.

ACTION: Notice.

SUMMARY: The Surface Transportation Board (STB) publishes the names of the persons selected to serve on its Senior Executive Service Performance Review Board (PRB).

FOR FURTHER INFORMATION CONTACT: Teresa M. Gauger, Director of Human Resources (202) 245-0340.

SUPPLEMENTARY INFORMATION: Title 5 U.S.C. 4312 requires that each agency implement a performance appraisal system making senior executives accountable for organizational and individual goal accomplishment. As part of this system, 5 U.S.C. 4314(c) requires each agency to establish one or more PRBs, the function of which is to review and evaluate the initial appraisal of a senior executive's performance by the supervisor and to make recommendations to the final rating authority relative to the performance of the senior executive.

The persons named below have been selected to serve on STB's PRB.

Leland L. Gardner, Director, Office of Economics, Environmental Analysis and Administration.

Matthew T. Wallen, Director, Office of Public Assistance, Governmental Affairs, and Enforcement.

Ellen D. Hanson, General Counsel David M. Konschnik, Director, Office of Proceedings.

Dated on July 16, 2008.
Anne K. Quinlan,
Acting Secretary.

[FR Doc. E8-16682 Filed 7-21-08; 8:45 am]

BILLING CODE 4915-01-P